DEPARTMENT OF THE INTERIOR

National Park Service

[NPS-WASO-NAGPRA-NPS0031781; PPWOCRADN0-PCU00RP14.R50000]

Notice of Intent To Repatriate Cultural Items: The Trustees of Reservations, Boston, MA

AGENCY: National Park Service, Interior.

ACTION: Notice.

SUMMARY: The Trustees of Reservations in consultation with the appropriate Indian Tribes or Native Hawaiian organizations, has determined that the cultural items listed in this notice meet the definition of objects of cultural patrimony. Lineal descendants or representatives of any Indian Tribe or Native Hawaiian organization not identified in this notice that wish to claim these cultural items should submit a written request to The Trustees of Reservations. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to The Trustees of Reservations at the address in this notice by May 27, 2021.

ADDRESSES: Mark Wilson, Curator, The Trustees of Reservations, 1 Sergeant Street, P.O. Box 792, Stockbridge, MA 01262, telephone (413) 298-3239 Ext. 3018, email mwilson@thetrustees.org.

SUPPLEMENTARY INFORMATION: Notice is here given in accordance with the Native American Graves Protection and Repatriation Act (NAGPRA), 25 U.S.C. 3005, of the intent to repatriate cultural items under the control of The Trustees of Reservations, Boston, MA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the 1930s, the six cultural items listed in this notice were removed from the Stockbridge Munsee Community in Wisconsin. Miss Mabel Choate, working through an agent, purchased these objects, along with one communion set (which was returned to the Stockbridge Munsee Community, Wisconsin in 2005) and a two-volume Bible (which was returned to the Stockbridge Munsee Community, Wisconsin in 1989) for display at the Mission House Museum in Stockbridge, MA. In 1948, Miss Choate donated the Mission House and all its contents, including these objects, to The Trustees of Reservations. The six objects of cultural patrimony consist of five of Sachem John Quinney's heirlooms and one of Sachem Austin Quinney's heirlooms, and are one tobacco pipe stem of horn and wood inlaid with mother-of-pearl, (Sachem John Quinney 1800-1850 (MH.P.16/8538)); one ebony sword/cane with ivory handle, (Sachem John Quinney 1850 (MH.P.16/8541)); one pair of buckskin leggings adorned with cotton fringe and brass buttons, (Sachem John Quinney 1830-1850 (MH.P.16/8530 & 8531)); one magnifying glass, (Sachem John Quinney 1800-1825 (MH.P.316)); one bell, possibly 18th century (Sachem John Quinney (MH.P.16/8535)); and one pipe bowl embossed 1810 (Sachem Austin Quinney (MH.P.16/8537)).

In the 1730s, the Stockbridge Mohicans, now the Stockbridge Munsee Community, Wisconsin, accepted the Reverend John Sergeant as a Christian missionary in Stockbridge, MA. Except for the bell (which might date to the 18th century), these objects date to the 19th century, and they all have an association with the Stockbridge Mohicans after their removal from Stockbridge, MA, which began in 1785. The affiliation of the cultural items with Sachem John Quinney, Sachem Austin Quinney, and the Stockbridge Munsee Community is established through records held in the archives of the Mission House, a property of The Trustees of Reservations. Consultation with representatives of the Stockbridge Munsee Community confirm that these heirlooms of Sachem John Quinney and Sachem Austin Quinney have ongoing historical, traditional, and cultural importance central to the Stockbridge Munsee Community, Wisconsin.

Determinations Made by The Trustees of Reservations

Officials of The Trustees of Reservations have determined that:

• Pursuant to 25 U.S.C. 3001(3)(D), the six cultural items described above have ongoing historical, traditional, or cultural importance central to the Native American group or culture itself, rather than property owned by an individual.

• Pursuant to 25 U.S.C. 3001(2), there is a relationship of shared group identity that can be reasonably traced between the objects of cultural patrimony and the Stockbridge Munsee Community, Wisconsin.

Additional Requestors and Disposition

Lineal descendants or representatives of any Indian Tribe or Native Hawaiian organization not identified in this notice that wish to claim these cultural items should submit a written request with information in support of the claim to Mark Wilson, Curator, The Trustees of Reservations, 1 Sergeant Street, P.O. Box 792, Stockbridge, MA 01262 telephone (413) 298-3239 Ext. 3018, email mwilson@thetrustees.org, by May 27, 2021. After that date, if no additional claimants have come forward, transfer of control of the objects of cultural patrimony to the Stockbridge Munsee Community, Wisconsin may proceed.

The Trustees of Reservations is responsible for notifying the Stockbridge Munsee Community, Wisconsin that this notice has been published.

Dated: April 19, 2021.
Melanie O'Brien,
Manager, National NAGPRA Program.

[FR Doc. 2021-08771 Filed 4-26-21; 8:45 am]

BILLING CODE 4312-52-P